DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with May anniversary dates. In accordance with Commerce's regulations, we are initiating those administrative reviews.

DATES: Applicable July 5, 2024.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with May anniversary dates.

All deadlines for the submission of various types of information, certifications, or comments or actions by Commerce discussed below refer to the number of calendar days from the applicable starting time.

Respondent Selection

In the event that Commerce limits the number of respondents for individual examination for administrative reviews initiated pursuant to requests made for the orders identified below, Commerce intends to select respondents based on U.S. Customs and Border Protection (CBP) data for U.S. imports during the period of review (POR). We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than May 31, 2025.

| Period to be reviewed
AD Proceedings
CANADA: Large Diameter Welded Pipe, A-122-863 | 5/1/23-4/30/24
Aciers Lague Steels Inc.
Acier Profile SBB Inc.
Amdor Inc.
BPC Services Group.
Bri‐Steel Manufacturing.
Canada Culvert.
Canadian National Steel Corp.
Canam (St Gedeon).
Cappco Tubular Products Canada Inc.
CFI Metal Inc.
Dominion Pipe & Piling C.
Enduro Canada Pipeline Services.
Evraz Inc. NA.
Fi Oilfield Services Canada.
Forterra.
Gchem Ltd.
Graham Construction.
Groupe Fordia Inc.
Grupo Fordia Inc.
Hodgson Custom Rolling.
Hyprescon Inc.
Interpipe Inc.
K K Recycling Services.
Kobelt Manufacturing Co.
Labrie Environment.
Les Aciers Sofatec.
Lorenz Conveying P.
Lorenz Conveying Products.
Matrix Manufacturing.
MBI Produits De Forge.
Nor Arc.
Peak Drilling Ltd.
Pipe & Piling Sply Ltd.
Pipe & Piling Supplies.
Prudental.
Prudential.
Shaw Pipe Protecction.
Shaw Pipe Protection.
Tenaris Algoma Tubes Facility.
Tenaris Prudential.
Welded Tube of Can Ltd.
BELGIUM: Carbon and Alloy Steel Cut-to-Length Plate, A-423-812 | 5/1/23-4/30/24
Ancofer Stahlhandel GmbH.
Eastman Chemical Technology BV.
Industeel Belgium S.A.
NLMK Clabecq S.A.; NLMK Plate Sales S.A.; NLMK Sales Europe S.A.; NLMK Manage Steel Center S.A.; NLMK La Louviere S.A.⁴
NLMK Dansteel A.S.
NV Hengelhoef Concrete Joints.
Steelforce Europe NV.
BELGIUM: Stainless Steel Plate in Coils, A-423-808 | 5/1/23-4/30/24
Aperam Stainless Belgium NV.
ArcelorMittal Genk.
Fenixs Steel NV.
Helaxa BVBA.
Industeel Belgium.
FRANCE: Carbon and Alloy Steel Cut-To-Length Plate, A-427-828 | 5/1/23-4/30/24
Dillinger France S.A.
GERMANY: Carbon and Alloy Steel Cut-To-Length Plate, A-428-844 | 5/1/23-4/30/24
AG der Dillinger Hüttenwerke.
GREECE: Large Diameter Welded Pipe, A-484-803 | 5/1/23-4/30/24
Corinth Pipeworks Pipe Industry S.A.
INDIA: Carbon and Alloy Steel Threaded Rod,⁵ A-533-887 | 4/1/23-3/31/24
Mangal Steel Enterprises Limited.
INDIA: Certain Welded Carbon Steel Standard Pipes and Tubes, A-533-502 | 5/1/23-4/30/24
Apl Apollo Tubes Ltd.
Asian Contec Ltd.
Bhandari Foils & Tubes Ltd.
Bhushan Steel Ltd.
Blue Moon Logistics Pvt. Ltd.
CH Robinson Worldwide.
Ess-Kay Engineers, Manushi Enterprise & Nishi Boring Corporation.
Garg Tube Export LLP.
GCL Private Limited.
Goodluck India Ltd.
GVN Fuels Ltd.
Fiber Tech Composite Pvt. Ltd.
Hydromatik.
Jindal Quality Tubular Ltd.
KLT Automatic & Tubular Products Ltd.
Lloyds Line Pipes Ltd.
MARINEtrans India Private Ltd.
Patton International Ltd.
Raajratna Ventures Ltd.
Ratnamani Metals & Tubes Ltd.
SAR Transport Systems Pvt. Ltd.
Surya Global Steel Tubes Ltd.
Surya Roshni Ltd.
Vallourec Heat Exchanger Tubes Ltd.
Welspun India Ltd.
Zenith Birla (India) Ltd.
Zenith Birla Steels Private Ltd.
Zenith Dyeintermediates Ltd.
INDIA: Organic Soybean Meal, A-533-901 | 5/1/23-4/30/24
Aashiyana Foodstuffs.
Abhay Oil Industries.
Agrawal Oil & Biocheam.
Alfa Engineering & Enterprise.
Al Quresh Exp.
Al Sameer Exp. Pvt., Ltd.
Apac Sourcing Solutions Ltd.
Artevet India LLP.
Asa Agrotech Pvt., Ltd.
Avt Natural Products Ltd.
Bawa Fishmeal and Oil Co.
Bergwerff Organic (India) Pvt., Ltd.; Suminter India Organics Pvt., Ltd.
Bio Treasure Overseas.
BNS Agro Industries Sarl on A C.
Chandrashekhar Exp. Pvt., Ltd.
Cloves Inc.
Delight Likelike Products Private Ltd.
Delight Sustainable Products LLP.
Eco Gold Nutri & Organics LLP.
Ecopure Organics Private Ltd.
Ecopure Specialties Ltd.
Euroasias Organics Private Ltd.
Fair Exp. (India) Pvt., Ltd.
Faze Three Ltd. Wec India.
Gharda Chemicals Ltd.
Grasim Industries Ltd.
Himatsingaka Seide Ltd.
Hnco Organics Pvt., Ltd.
Indauto Filters.
Indo Gulf Co.
Januz Universal.
Jay Agro Product.
Jay Shree Agro Products.
J. Lal Foods International.
J Lal Foods Private Ltd.
JSM Foods.
Kaj Traders.
Kalash International.
Kan Biosys Pvt., Ltd.
Kanishka Organics LLP.
Kemin Industries South Asia Pvt., Ltd.
Keshav Proteins and Organic LLP.
Khanal Foods Pvt., Ltd.
Kiesrriya Agro Exim Pvt., Ltd.
Krishna Corncob Industries.
Krishna Overseas Inc.
K Uttamlal Exp. Pvt., Ltd.
LG Balakrishnan Bros.
Lupin Limited.
Mani Loni.
Medikonda Nutrients.
Mehtra Pressing.
Mj Herbal Extracts Pvt., Ltd.
Mohit International Pvt., Ltd.
Motto Ceramic Pvt., Ltd.
Mrl Tyres Ltd.
Natural Remedies Pvt., Ltd.
Nature Bio Foods Ltd.
Navjyot International.
Nutrivin Agro Pvt., Ltd.
Ox Emp. Co.
Pachranga Foods.
Paprika Oleos (India) Ltd.
Patel Retail Private Ltd.
Prasad Cotton Industries Pvt., Ltd.
Quality Spices and Food Exp. Pvt., Ltd.
Radha Krishna Oil Product.
Rainbow Exim Trade LLP.
Raj Foods International.
Raj Natural Food Pvt., Ltd.
Rajat Agro Commodities Pvt., Ltd.
Ramdev Food Products Pvt., Ltd.
Rayban Organics Pvt., Ltd.
Reach 2 Farm LLP.
Reindeer Organics LLP.
R.M Trading Co.
R.S. Lal International.
Rudra Enterprises.
Rupen Marketing Pvt., Ltd.
Sai Smaran Foods Ltd.
Salvi Chemical Industries Ltd.
Samruddhi Organic Farm (India) Pvt., Ltd.
Sar Transport Systems Pvt., Ltd.
Satguru Agro Resources Private Ltd.
Satguru Organics Pvt., Ltd.
Satyendra Fibc Pvt., Ltd.
Seasons International Pvt., Ltd.
Sethi International Overseas (India) Limited.
Shanti Worldwide.
Shemach Impex.
Shivam Enterprises.
Shree Imp. & Exp.
Shree Swaminarayan Siddhant Uttejak.
Shree Uday Oil and Foods Industries.
Shreeram Fibres India Pvt., Ltd.
Shri Narayani Mfg. Co.
Shri Sumati Industries Pvt., Ltd.
Soliflex Packaging Pvt., Ltd.
Sona Sunehri Exp.
S S India Foods Private Ltd.
Suprajit Engineering Ltd.
Tejawat Organic Foods.
Terra Bio Naturals Private Ltd.
Thakar Exp.
Tulsi Foods.
Unique Fragrances.
Unique Organics Ltd.
Vimala Food Products.
Vinod Kumar Ranjeet Singh Bafna.
Vippy Industries.
VS Trans Lojistik LLP.
Vvf (India) Ltd.
We Organic Nature Pvt. Ltd.
Welspun Global Brands Ltd.
INDIA: Silicomanganese, A-533-823 | 5/1/23-4/30/24
Maithan Alloys Limited.
ITALY: Carbon and Alloy Steel Cut-To-Length Plate, A-475-834 | 5/1/23-4/30/24
NLMK Verona S.p.A.
Officine Technosider s.r.l.
F.A.R. Fonderie Acciaierie S.p.A.
Ferriera Valsider SpA.
Metinvest Trametal SpA.
JAPAN: Certain Carbon and Alloy Steel Cut-to-Length Plate, A-588-875 | 5/1/23-4/30/24
Tokyo Steel Manufacturing Co., Ltd.
JAPAN: Diffusion-Annealed, Nickel-Plated Flat-Rolled Steel Products, A-588-869 | 5/1/23-4/30/24
KAGA, Inc.
Marubeni-Itochu Steel, Inc.
Okaya & Co., Ltd.
Oneda Corporation.
Oneda Electric Corporation.
Nikken Lath Kogyo Co., Ltd.
Panasonic Operational Excellence Co., Ltd.
Toyo Kohan Co., Ltd.
NETHERLANDS: Certain Preserved Mushrooms, A-421-815 | 11/3/22-4/30/24
Okechamp B.V.
OMAN: Polyethylene Terephthalate Resin, A-523-810 | 5/1/23-4/30/24
OCTAL Inc.
OCTAL SAOC FZC.
POLAND: Certain Preserved Mushrooms, A-455-806 | 11/3/22-4/30/24
Okechamp S.A.
REPUBLIC OF KOREA: Carbon and Alloy Steel Cut-To-Length Plate, A-580-887 | 5/1/23-4/30/24
POSCO; POSCO International Corporation.
REPUBLIC OF KOREA: Carbon and Alloy Steel Wire Rod, A-580-891 | 5/1/23-4/30/24
POSCO.
REPUBLIC OF KOREA: Large Diameter Welded Pipe, A-580-897 | 5/1/23-4/30/24
AJU Besteel Co., Ltd.
Chang Won Bending Co., Ltd.
Daiduck Piping Co., Ltd.
Dong Yang Steel Pipe Co., Ltd.
Dongbu Incheon Steel Co., Ltd.
EEW KHPC Co., Ltd.
EEW Korea Co., Ltd.
Geumok Tech. Co., Ltd.
Hansol Metal Co. Ltd.
HiSteel Co., Ltd.
Husteel Co., Ltd.
Hyundai RB Co., Ltd.
Hyundai Steel Company.
Hyundai Steel Pipe Co., Ltd.
Il Jin Nts Co. Ltd.
Kiduck Industries Co., Ltd.
Kum Kang Kind. Co., Ltd.
Kumsoo Connecting Co., Ltd.
Nexteel Co., Ltd.
SeAH Steel Corporation.
Seonghwa Industrial Co., Ltd.
SIN‐E B&P Co., Ltd.
Steel Flower Co., Ltd.
WELTECH Co., Ltd.
REPUBLIC OF KOREA: Polyester Staple Fiber, A-580-839 | 5/1/23-4/30/24
Huvis Corporation.
Toray Advanced Materials Korea, Inc.
REPUBLIC OF TÜRKIYE: Circular Welded Carbon Steel Pipes and Tubes, A-489-501 | 5/1/23-4/30/24
Borusan Birleşik Boru Fabrikalari Sanayi ve Ticaret A.Ş.
REPUBLIC OF TÜRKIYE: Large Diameter Welded Pipe, A-489-833 | 5/1/23-4/30/24
Cagil Makina San ve Tic A.S. AKA Cagil Makina A.S.
HDM Celik Boru Sanayi ve Ticaret A.S.; HDM Spiral Kaynakli Boru A.S.⁶
Spirally Welded Steel Pipe Inc.
Çimtaş Boru Imalatiral Ticaret Ltd.
Emek Boru Makina Sanayi ve Ticaret A.S.
Erciyas Celik Boru Sanayi A.S.
Mazlum Mangtay Boru Son. Ins. Tar.Urn.San.ve Tic. A.S.
Noksel Celik Boru Sanayi A.S.
Ozbal Celik Boru San. Tic. Ve TAAH A.S.
Toscelik Profil ve Sac End. A.S.⁷
Toscelik Spiral Boru Uretim A.S.
Umran Celik Boru Sanayii A.S.
SERBIA: Mattresses, A-801-002 | 5/1/23-4/30/24
Healthcare Europe DOO Ruma.
Healthcare Europe Inc.
SOCIALIST REPUBLIC OF VIETNAM: Mattresses, A-552-827 | 5/1/23-4/30/24
Saigon-Kymdan Rubber Stock Company.
TAIWAN: Certain Circular Welded Carbon Steel Pipes and Tubes, A-583-008 | 5/1/23-4/30/24
Shin Yang Steel Co., Ltd.
Yieh Hsing Enterprise Co., Ltd.
TAIWAN: Certain Stainless Steel Plate in Coils, A-583-830 | 5/1/23-4/30/24
Alpha Metal International Co., Ltd.
Aurora Metal International Co., Ltd.
Best Win International Co., Ltd.
Build Up Hardware Co., Ltd.
Chain Chon Industrial Co., Ltd.
Chang Mien Industries Co., Ltd.
Chia Far Industries Factory Co., Ltd.
Chien Shing Stainless Co., Ltd.
China Steel Corporation.
China Steel Global Trading Corp.
China Tah Lee Special Steel Co., Ltd.
Chung Hung Steel co., Ltd.
Da Song Enterprise Co., Ltd.
Da Tsai Stainless Steel Co., Ltd.
East Track Enterprise Co., Ltd.
Froch Enterprise Co., Ltd.
Fu Sheng Rubber & Plastic Industries Co.
Gifull Enterprise Co., Ltd.
Goang Jau Shing Enterprise Co., Ltd.
Goldioceans International Co., Ltd.
High Point Steel Mfg. Co., Ltd.
Hoka Elements Co., Ltd.
Huang-Yi Steel Coil Co., Ltd.
Hwa Yang Stainless Steel Ind Corp.
JJSE Co., Ltd.
JK Industrial Development Corp.
Jye Chi Corporation.
Kunn Chuan Enterprise Co., Ltd.
Lien Chy Laminated Metal Co., Ltd.
Lien Kuo Metal Industries Co., Ltd.
Lung An Stainless Ind. Co., Ltd.
Meglobe Co., Ltd.
Omen Bright Co., Ltd.
PFP Taiwan Co., Ltd.
Po Chwen Metal Industrial Co., Ltd.
Pyramid Metal Technology Co., Ltd.
Shang Chen Steel Co., Ltd.
Shiner Steel International Ltd.
Shing Shong Ta Metal Co., Ltd.
Shye Yao Steel Co., Ltd.
Sinkang Industries Co., Ltd.
S-More Steel Materials Co., Ltd.
Stanch Stainless Steel Co., Ltd.
Sun Chun Stainless Co., Ltd.
Sunmax Industrial Inc.
Ta Chen International, Inc.
Ta Chen Stainless Pipe Co., Ltd.
Vasteel Enterprises Co., Ltd.
Ta Fong Steel Co., Ltd.
Taiwan Nippon Steel Stainless.
Tang Eng Iron Works.
Ton Yi Industrial Corp.
Top Sunny Group Corp.
Tsung Yui Enterprise Co., Ltd.
Tung Mung Development Co., Ltd.
Tzong Ji Metals Co., Ltd.
Unity Special Steel Co., Ltd.
Yieh Corp.
Walsin Lihwa Corp.
Wu Fu Jin.
Wuu Jing Enterprise Co., Ltd.
Yc Inox Co., Ltd.
Yeou Ting Industries Co., Ltd.
Yeou Yih Steel Co., Ltd.
Yes Stainless International Co.
Yi Shuenn Enterprise Co., Ltd.
Yue Send Industrial Co., Ltd.
Yieh Loong Enterprise Co., Ltd.
Yieh Mau Corporation.
Yuan Long Stainless Steel Corp.
Yuen Chang Stainless Steel Co., Ltd.
Yuh Sheng Stainless Steel Co., Ltd.
TAIWAN: Stilbenic Optical Brightening Agents, A-583-848 | 5/1/23-4/30/24
Teh Fong Min International Co., Ltd.
THE PEOPLE'S REPUBLIC OF CHINA: Aluminum Extrusions, A-570-967 | 5/1/23-4/30/24
Guangdong Xin Wei Aluminum Products Co., Ltd.
THE PEOPLE'S REPUBLIC OF CHINA: Certain Vertical Shaft Engines between 99cc and up to 225cc, and parts thereof, A-570-124 | 5/1/23-4/30/24
Changzhou Kawasaki and Kwang Yang Engine Co., Ltd.
ChongQing AM Pride Power & Machinery Co., Ltd.
Chongqing Chen Hui Electric Machinery Co., Ltd.
Chongqing Dajiang Power Equipment Co., Ltd.
Chongqing Dinking Power Machinery Co., Ltd.
Chongqing Ducar Power Equipment Co., Ltd.
Chongqing Hwasdan Power Technology Co., Ltd.
Chongqing Kohler Engines, Ltd.
Chongqing Kohler Motors Co., Ltd.
Chongqing Rato Technology Co., Ltd.
Chongqing Senci Import & Export Trade Co., Ltd.
Chongqing Shineray Agricultural Machinery Co., Ltd.
Chongqing Zongshen General Power Machine Co., Ltd.
Fujian Everstrong Lega Power Equipments Co., Ltd.
Kawasaki Heavy Industries, Ltd.
Lifan Technology (Group) Co., Ltd.
Loncin Motor Co., Ltd.
Qianjiang Group Wenling Jennfeng Industry Inc.
Taizhou Sabo Electronics Co., Ltd.
Wenling Qianjiang Imp. & Exp. Co., Ltd.
Zhejiang Amerisun Technology Co., Ltd.
Zhejiang Dobest Power Tools Co., Ltd.
THE PEOPLE'S REPUBLIC OF CHINA: Citric and Citrate Salts, A-570-937 | 5/1/23-4/30/24
RZBC Group Co., Ltd.
RZBC Co., Ltd.
RZBC Import & Export Co., Ltd.
RZBC (Juxian) Co., Ltd.
THE PEOPLE'S REPUBLIC OF CHINA: Non-refillable Steel Cylinders, A-570-126 | 5/1/23-4/30/24
Ningbo Eagle Machinery & Technology Co., Ltd.
Sanjiang Kai Yuan Co. Ltd.
Wuyi Xilinde Machinery Manufacture Co., Ltd.
Zhejiang KIN-SHINE Technology Co., Ltd.
THE PEOPLE'S REPUBLIC OF CHINA: Oil Country Tubular Goods, A-570-943 | 5/1/23-4/30/24
Petroleum Equipment (Thailand) Co., Ltd.
Thai Oil Pipe Co., Ltd.
THE PEOPLE'S REPUBLIC OF CHINA: Pure Magnesium, A-570-832 | 5/1/23-4/30/24
Tianjin Magnesium International Co., Ltd.
Tianjin Magnesium Metal Co., Ltd.
THE PEOPLE'S REPUBLIC OF CHINA: Stilbenic Optical Brightening Agents, A-570-972 | 5/1/23-4/30/24
Beijing Odyssey Chemical Ind. Co. Ltd.
Hebei Dianchang Chemicals Co. Ltd.
Jinan Subang Fine Chemical Co., Ltd.
Zhejiang Hongda Chemicals Co., Ltd.
Zhejiang Transfar Whyyon Chemical Co., Ltd.
UNITED ARAB EMIRATES: Certain Steel Nails, A-520-804 | 5/1/23-4/30/24
Al Falaq Building Materials.
Al Khashab Building Materials Co., LLC.
Al Rafaa Star Building Materials Est.
Al Sabbah Trading and Importing, Est.
Al-Khatib Est.
All Ferro Building Materials, LLC.
Asgarali Yousuf Trading Co., LLC.
Azymuth Consulting, LLC.
Burj Al Tasmeem, Tr.
Gheewala Hardware Trading Company, LLC.
Madar UAE.
Master Nails and Pins Manufacturing, LLC/Middle East Manufacturing Steel, LLC.
Mustafa Building Materials Co. (LLC).
New World International, LLC.
Okzeela Star Building Materials Trading, LLC.
Rich Well Steel Industries, LLC.
Rishi International, FZCO.
Samrat Wire Industry, LLC.
Sea Lan Contracting.
SK Metal International DMCC.
Trade Circle Enterprises, LLC.
CVD Proceedings
INDIA: Organic Soybean Meal, C-533-902 | 1/1/23-12/31/23
Abhay Oil Industries.
Agrawal Oil & Biocheam.
Alfa Engineering & Enterprise.
Allcargo Logistics Ltd.
All Cargo Logistics Ltd.
Al Quresh Exp.
Al Sameer Exp. Pvt., Ltd.
Artevet India LLP.
Asa Agrotech Pvt., Ltd.
Avt Natural Products Ltd.
Bawa Fishmeal and Oil Co.
Bergwerff Organic (India) Pvt., Ltd.; Suminter India Organics Pvt., Ltd.
Bio Treasure Overseas.
BNS Agro Industries Sarl.
Chandrashekhar Exp. Pvt., Ltd.
Chola Imp. & Exp.
Decent Shipping Pvt., Ltd.
Delight Likelike Products Private Ltd.
Delight Sustainable Products LLP.
Eco Gold Nutri and Organics LLP.
Ecopure Specialties Ltd.
Euroasia S. Ingredients Private Ltd.
Euroasias Organics Private Ltd.
Fair Exp. (India) Pvt., Ltd.
Faze Three Ltd. Wec India.
Grasim Industries Ltd.
Himatsingaka Seide Ltd.
Hnco Organics Pvt., Ltd.
Indication Instruments Ltd.
Jay Agro Product.
Jay Shree Agro Products.
J. Lal Foods International.
J Lal Foods Private Ltd.
JSM Foods.
Kaj Traders.
Kalash International.
Kan Biosys Pvt., Ltd.
Kanishka Organics LLP.
Kemin Industries South Asia Pvt., Ltd.
Keshav Proteins and Organic LLP.
Khanal Foods Pvt., Ltd.
Kiesrriya Agro Exim Pvt., Ltd.
Krishna Exp. Private Ltd.
K Uttamlal Exp. Pvt., Ltd.
LG Balakrishnan Bros.
Lupin Limited.
Mani Loni.
Medikonda Nutrients.
Mehtra Pressing.
Mj Herbal Extracts Pvt., Ltd.
Mohit International Pvt., Ltd.
Natraj Home Furnishings Pvt., Ltd.
Natural Remedies Pvt., Ltd.
Nature Bio Foods Ltd.
Navjyot International.
Ox Emp. Co.
Pachranga Foods.
Paprika Oleos (India) Ltd.
Patel Retail Private Ltd.
Prasad Cotton Industries Pvt., Ltd.
Promois International Ltd.
Pt C Industries Ltd. Mehsana Plant.
Quality Spices and Food Exp. Pvt., Ltd.
Radha Krishna Oil Product.
Rainbow Exim Trade LLP.
Raj Foods International.
Raj Natural Food Pvt., Ltd.
Rajat Agro Commodities Pvt., Ltd.
Ramdev Food Products Pvt., Ltd.
Rayban Organics Pvt., Ltd.
Reach 2 Farm LLP.
Reindeer Organics LLP.
R.S. Lal International.
Rudra Enterprises.
Rupen Marketing Pvt., Ltd.
Rustam Foods Private Ltd.
Safewater Lines (India) Pvt., Ltd.
Sai Smaran Foods Ltd.
Salvi Chemical Industries Ltd.
Samruddhi Organic Farm (India) Pvt., Ltd.
Sar Transport Systems Pvt., Ltd.
Satguru Agro Resources Private Ltd.
Satguru Organics Pvt., Ltd.
Seasons International Pvt., Ltd.
Sethi International.
Shah Imp. & Exp.
Shanti Overseas (India) Limited.
Shanti Worldwide.
Shemach Impex.
Shivam Enterprises.
Shree Imp. & Exp.
Shree Swaminarayan Siddhant Uttejak.
Shree Uday Oil and Foods Industries.
Shreeram Fibres India Pvt., Ltd.
Shri Narayani Mfg. Co.
Shri Sumati Industries Pvt., Ltd.
S S India Foods Private Ltd.
Tejawat Organic Foods.
Terra Bio Naturals Private Ltd.
Thakar Exp.
Thirumalai Chemicals Ltd.
Unique Fragrances.
Unique Organics Ltd.
Vimala Food Products.
Vinod Kumar Ranjeet Singh Bafna.
Vippy Industries.
VS Trans Lojistik LLP.
We Organic Nature Pvt. Ltd.
Welspun Global Brands Ltd.
Wwi Sourcing Pvt., Ltd.
Yashvi Food Private, Ltd
INDIA: Polyethylene Terephthalate Resin, C-533-862 | 1/1/23-12/31/23
Ester Industries Ltd.
REPUBLIC OF KOREA: Carbon and Alloy Steel Cut-To-Length Plate, C-580-888 | 1/1/23-12/31/23
Ajin Industrial Co., Ltd.
BDP International.
Blue Track Equipment.
Boxco.
Boxco, Inc.
Bukook Steel Co., Ltd.
Buma CE Co., Ltd.
China Chengdu International Techno-Economic Cooperation Co., Ltd.
Daehan I.M. Co., Ltd.
Daehan Tex Co., Ltd.
Daeik Eng Co. Ltd.
Daelim Industrial Co., Ltd.
Daesam Industrial Co., Ltd.
Daesin Lighting Co., Ltd.
Daewoo International Corp.
Dong Yang Steel Pipe.
DKC.
DK Corporation.
DK Dongshin Co., Ltd.
Dongbu Steel Co., Ltd.
Dongkuk Industries Co., Ltd.
Dongkuk Steel Mill Co., Ltd.
EAE Automotive Equipment.
EEW KHPC Co., Ltd.
Eplus Expo Inc.
GS Global Corp.
Haem Co., Ltd.
Han Young Industries.
Hyeon Dae Jong Hap Gong Gu Co. Ltd.
Hyosung Corp.
Hyundai Steel Co.
Jinmyung Frictech Co., Ltd.
Khana Marine Ltd.
Kindus Inc.
Korean Iron and Steel Co., Ltd.
Kyoungil Precision Co., Ltd.
LG Electronics Inc.
Menics.
POSCO; Pohang Scrap Recycling Distribution Center Co. Ltd.; POSCO Nippon Steel RHF Joint Venture Co., Ltd.; POSCO Chemical Co., Ltd.; POSCO M-Tech Co., Ltd.; POSCO Terminal Co., Ltd.; POSCO SPS Co., Ltd.; POSCO Holdings Inc.⁸
POSCO International Corporation.
Qian'an Rentai Metal Products Co., Ltd.
Samjin Lnd Co., Ltd.
Samsun C&T Corp.
Samsung.
Samsung Electronics Co., Ltd.
Shinko.
Shipping Imperial Co., Ltd.
Sinchang Eng Co., Ltd.
SK Networks Co., Ltd.
SNP Ltd.
Seogio O/A.
Steel N People Ltd.
Summit Industry.
Sungjin Co., Ltd.
Wonbang Tech Co., Ltd.
Young Sun Steel.
REPUBLIC OF KOREA: Large Diameter Welded Pipe, C-580-898 | 1/1/23-12/31/23
AJU Besteel Co., Ltd.
Chang Won Bending Co., Ltd.
Daiduck Piping Co., Ltd.
Dong Yang Steel Pipe Co., Ltd.
Dongbu Incheon Steel Co., Ltd.
EEW KHPC Co., Ltd.
EEW Korea Co., Ltd.
Hansol Metal Co. Ltd.
Histeel Co., Ltd.
Husteel Co., Ltd.⁹
Hyundai RB Co., Ltd.; Shinchang Construction Co., Ltd.
Hyundai Steel Company.¹⁰
Il Jin Nts Co. Ltd.
Iljin Nts Co. Ltd.
Kem Solutions Co., Ltd.
Kiduck Industries Co., Ltd.
Kum Kang Kind. Co., Ltd.
Kumsoo Connecting Co., Ltd.
Nexteel Co., Ltd.
POSCO International Corporation.
Samkang M&T Co., Ltd.
SeAH Steel Corporation; ESAB SeAH Corporation; SeAH Steel Holdings Corporation.
Seonghwa Industrial Co., Ltd.
SIN‐E B&P Co., Ltd.
Steel Flower Co., Ltd.
WELTECH Co., Ltd.
REPUBLIC OF TÜRKIYE: Large Diameter Welded Pipe, C-489-834 | 1/1/23-12/31/23
Cagil Makina San ve Tic A.S. AKA Cagil Makina A.S.
HDM Celik Boru Sanayi ve Ticaret A.S.; HDM Spiral Kaynakli Boru A.S.¹¹
Spirally Welded Steel Pipe Inc.
Çimtaş Boru Imalatiral Ticaret Ltd.
Emek Boru Makina Sanayi ve Ticaret A.S.
Erciyas Celik Boru Sanayi A.S.
Mazlum Mangtay Boru Son. Ins. Tar.Urn.San.ve Tic. A.S.
Noksel Celik Boru Sanayi A.S.
Ozbal Celik Boru San. Tic. Ve TAAH A.S.
Toscelik Profil ve Sac End. A.S.¹²
Toscelik Spiral Boru Uretim A.S.
Umran Celik Boru Sanayii A.S
THE PEOPLE'S REPUBLIC OF CHINA: Aluminum Extrusions, C-570-968 | 1/1/23-12/31/23
Guangdong Xin Wei Aluminum Products Co., Ltd.
THE PEOPLE'S REPUBLIC OF CHINA: Certain Chassis and Subassemblies Thereof, C-570-136 | 1/1/23-12/31/23
CIMC Vehicles (Group) Co., Ltd.
SinoTrailers.
Qingdao CIMC Special Vehicles Co., Ltd.; Dongguan CIMC Vehicle Co., Ltd.; CIMC Vehicles (Group) Co., Ltd.; Shenzhen CIMC Vehicle Co., Ltd.; Zhumadian CIMC Huajun Casting Co., Ltd.; China International Marine Containers (Group) Co., Ltd.; Liangshan CIMC Dongyue Vehicles Co., Ltd.; Shandong Wanshida Special Vehicle Manufacturing Co., Ltd.; Yangzhou CIMC Tonghua Special Vehicles Co., Ltd.; Zhumadian CIMC Huajun Vehicle Co., Ltd.; Gansu CIMC Huajun Vehicles Co., Ltd.; CIMC Vehicles (Liaoning) Co., Ltd.; Zhumadian CIMC Wanjia Axle Co., Ltd.¹³
THE PEOPLE'S REPUBLIC OF CHINA: Certain Vertical Shaft Engines Between 99 Cubic Centimeters and up to 225cc, and Parts Thereof, C-570-125 | 1/1/23-12/31/23
Changzhou Kawasaki and Kwang Yang Engine Co., Ltd.
ChongQing AM Pride Power & Machinery Co., Ltd.
Chongqing Chen Hui Electric Machinery Co., Ltd.
Chongqing Dinking Power Machinery Co., Ltd.
Chongqing Ducar Power Equipment Co., Ltd.
Chongqing Hwasdan Power Technology Co., Ltd.
Chongqing Kohler Engines, Ltd.
Chongqing Kohler Motors Co., Ltd.
Chongqing Rato Technology Co., Ltd.
Chongqing Senci Import & Export Trade Co., Ltd.
Chongqing Shineray Agricultural Machinery Co., Ltd.
Chongqing Zongshen General Power Machine Co., Ltd.; Chongqing Zongshen Power Machinery Co., Ltd.; Zong Shen Industrial Group; Chongqing Zongshen Automobile Air Intake System Manufacturing Co., Ltd.; Chongqing Zongshen High Speed Boat Development Co., Ltd.; Chongqing Zong Shen Electrical Appliance Co., Ltd.; Chongqing Dajiang Power Equipment Co., Ltd.
Fujian Everstrong Lega Power Equipments Co., Ltd.
Kawasaki Heavy Industries, Ltd.
Lifan Technology (Group) Co., Ltd.
Loncin Motor Co., Ltd.
Qianjiang Group Wenling Jennfeng Industry Inc.
Taizhou Sabo Electronics Co., Ltd.
Wenling Qianjiang Imp. & Exp. Co., Ltd.
Zhejiang Amerisun Technology Co., Ltd.
Zhejiang Dobest Power Tools Co., Ltd.
THE PEOPLE'S REPUBLIC OF CHINA: Non-refillable Steel Cylinders, C-570-127 | 1/1/23-12/31/23
Sanjiang Kai Yuan Co. Ltd.
Suspension Agreements
None
Deferral of Initiation of Administrative Review
INDONESIA: Mattresses,¹⁴ A-560-836 | 5/1/23-4/30/24
Bali Natural Latex.
CV. Aumireta Anggun.
Duta Abadi Primantara, Pt.
Ecos Jaya JL Pasir Awi.
Mimpi.
CV. Lautan Rezeki.
P.T. Barat Daya Gemilang.
PT Celebes Putra Prima.
PT Demak Putra Mandiri.
PT Ecos Jaya Indonesia.
PT Graha Anom Jaya.
PT Graha Seribusatujaya.
PT Kline Total Logistics Indonesia.
PT Rubberfoam Indonesia.
PT Solo Murni Epte.
PT. Ateja Multi Industri.
PT. Ateja Tritunggal.
PT. Aurora World Cianjur.
PT. Cahaya Buana Furindotama.
PT. CJ Logistics Indonesia.
PT. Dinamika Indonusa Prima.
PT. Dunlopillo Indonesia.
PT. Dynasti Indomegah.
PT. Grantec Jaya Indonesia.
PT. Massindo International.
PT. Ocean Centra Furnindo.
PT. Quantum Tosan Internasional.
PT. Romance Bedding & Furniture.
PT. Royal Abadi Sejahtera.
PT. Transporindo Buana Kargotama.
PT. Zinus Global Indonesia.
Sonder Canada Inc.
Super Poly Industry PT.
Zinus, Inc.

Duty Absorption Reviews

⁴ Commerce collapsed the following companies in the less-than-fair-value investigation and treated them as a single entity: NLMK Clabecq S.A., NLMK Plate Sales S.A., NLMK Sales Europe S.A., NLMK Manage Steel Center S.A., and NLMK La Louviere S.A. See Certain Carbon and Alloy Steel Cut-To-Length Plate from Belgium: Final Determination of Sales at Less Than Fair Value and Final Determination of Critical Circumstances, in Part, 82 FR 16378 (April 4, 2017).

⁵ In the initiation notice published on June 12, 2024, Commerce incorrectly initiated a review of this order on ATC Tires Private Limited, ATC Tires AP Private Limited, and Yokohama Off-Highway Tires America, Inc., which are companies for which we did not receive requests for review. We are correcting that initiation notice here. See Initiation of Antidumping and Countervailing Duty Administrative Reviews, 89 FR 49844, 49846 (June 12, 2024).

⁶ In English, the name HDM Spiral Kaynakli Celik Boru A.S. is HDM Spirally Welded Steel Pipe Inc.

⁷ In English, the name Toscelik Profil ve Sac End. A.S. is Toscelik Profile and Sheet Ind. Co.

⁸ We have preliminarily found that POSCO and POSCO Holdings Inc. are cross-owned. See Certain Carbon and Alloy Steel Cut-to-Length Plate From the Republic of Korea: Preliminary Results and Partial Rescission of Countervailing Duty Administrative Review; 2022, 89 FR 47131 (May 31, 2024) (CTL Plate from Korea), and accompanying Preliminary Decision Memorandum at 9.

⁹ Subject merchandise both produced and exported by Husteel Co., Ltd. (Husteel) is excluded from the countervailing duty order. See Large Diameter Welded Pipe from the Republic of Korea: Countervailing Duty Order, 84 FR 18773 (May 2, 2019). Thus, Husteel's inclusion in this administrative review is limited to entries for which Husteel was not both the producer and exporter of the subject merchandise.

¹⁰ Subject merchandise both produced and exported by Hyundai Steel Company (Hyundai Steel) and subject merchandise produced by Hyundai Steel and exported by Hyundai Corporation are excluded from the countervailing duty order. See Large Diameter Welded Pipe from the Republic of Korea: Countervailing Duty Order, 84 FR 18773 (May 2, 2019). Thus, Hyundai Steel's inclusion in this administrative review is limited to entries for which Hyundai Steel was not the producer and exporter of the subject merchandise and for which Hyundai Steel was not the producer and Hyundai Corporation was not the exporter of subject merchandise.

¹¹ In English, the name HDM Spiral Kaynakli Celik Boru A.S. is HDM Spirally Welded Steel Pipe Inc.

¹² In English, the name Toscelik Profil ve Sac End. A.S. is Toscelik Profile and Sheet Ind. Co.

¹³ In a prior segment of this proceeding, Commerce determined that Qingdao CIMC Special Vehicles Co., Ltd.; Dongguan CIMC Vehicle Co., Ltd.; CIMC Vehicles (Group) Co., Ltd.; Shenzhen CIMC Vehicle Co., Ltd.; Zhumadian CIMC Huajun Casting Co., Ltd.; China International Marine Containers (Group) Co., Ltd.; Liangshan CIMC Dongyue Vehicles Co., Ltd.; Shandong Wanshida Special Vehicle Manufacturing Co., Ltd.; Yangzhou CIMC Tonghua Special Vehicles Co., Ltd.; Zhumadian CIMC Huajun Vehicle Co., Ltd.; Gansu CIMC Huajun Vehicles Co., Ltd.; CIMC Vehicles (Liaoning) Co., Ltd.; Zhumadian CIMC Wanjia Axle Co., Ltd. were cross-owned affiliates. See Certain Chassis and Subassemblies Thereof from the People's Republic of China: Countervailing Duty Order and Amended Final Affirmative Countervailing Duty Determination, 86 FR 24844 (May 10, 2021).

¹⁴ Pursuant to 19 CFR 351.213(c), Commerce received a request from PT. Zinus Global Indonesia (which includes Zinus, Inc.) to defer the administrative review with respect to itself for one year. Commerce did not receive any objections to the deferral within 15 days after the end of the anniversary month. Furthermore, based on the CBP data, Zinus Indonesia accounts for virtually all U.S. imports of the subject merchandise during the POR (See memo to the file “Customs and Border Protection Data,” dated concurrently with this notice). As such, with respect to all companies listed in this deferral, we will initiate the administrative review in the month immediately following the next anniversary month.

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether ADs have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹⁵ available at https://www.govinfo.gov/content/pkg/FR-2013-07-17/pdf/2013-17045.pdf, prior to submitting factual information in this segment. Note that Commerce has amended certain of its requirements pertaining to the service of documents in 19 CFR 351.303(f).¹⁶

¹⁵ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁶ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.¹⁷ Commerce intends to reject factual submissions in any proceeding segments if the submitting party does not comply with applicable certification requirements.

¹⁷ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁸ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹⁸ See 19 CFR 351.302.

These initiations and this notice are in accordance with section 751(a) of the Act (19 U.S.C. 1675(a)) and 19 CFR 351.221(c)(1)(i).

Dated: July 1, 2024.
Scot Fullerton,
Acting Deputy Assistant Secretary for Antidumping and Countervailing Duty Operations.

[FR Doc. 2024-14771 Filed 7-3-24; 8:45 am]

BILLING CODE 3510-DS-P